NATIONAL CAPITAL PLANNING COMMISSION

Notice of Public Comment Period and a Public Meeting on Updates to the Submission Guidelines Related to Antennas on Federal and Certain District Buildings and Land

AGENCY: National Capital Planning Commission.

ACTION: Notice of 60-Day public comment period and public meetings.

SUMMARY: The National Capital Planning Commission (NCPC) has released a revision to the Submission Guidelines updating the requirements and criteria for antennas placed on Federal and certain District buildings and lands in the National Capital Region. Federal and District agency applicants who are seeking to place antennas on their property are subject to review by the Commission following a process laid out in the Submission Guidelines. The proposed revisions to the Antenna Submission Guidelines address several deficiencies in the current guidelines, namely: Adding definitions for small cells and temporary antennas; including several new criteria to help protect viewsheds and address multiple antennas on building rooftops; and identifying the review process for temporary and small cell antennas. NCPC will host one virtual meeting for the public to learn more about the revisions in the draft Antenna Submission Guidelines.

DATES: The public comment period closes September 14, 2020.

The meeting will be on August 4, 2020 from 4:30 p.m. to 5:30 p.m.

ADDRESSES: The proposed amendments can be found at: https://www.ncpc.gov/initiatives/antennas/.

Registration information for the meeting is available online at https://www.ncpc.gov/initiatives/antennas/.

Written public comments on the draft submitted electronically are preferred but may be submitted by either method:

1. U.S. mail, courier, or hand deliver: Tree Replacement, Submission Guidelines, Public Comment, National Capital Planning Commission, 401 9th Street NW, Suite 500N, Washington, DC 20004.

2. https://www.ncpc.gov/initiatives/antennas/.

FOR FURTHER INFORMATION CONTACT: Carlton Hart at (202) 482-7252 or info@ncpc.gov.

Authority: 40 U.S.C. 8721(e)(2).

Dated: July 9, 2020.
Debra Dickson,
Director, Office of Administration.

[FR Doc. 2020-15327 Filed 7-15-20; 8:45 am]

BILLING CODE P